DEPARTMENT OF DEFENSE

Department of the Navy

32 CFR Part 706

Certifications and Exemptions Under the International Regulations for Preventing Collisions at Sea, 1972; Correction

AGENCY: Department of the Navy, DoD.

ACTION: Correcting amendment.

SUMMARY: The Department of the Navy (DoN) published a final rule in the Federal Register (76 FR 58399) of September 21, 2011, concerning certifications and exemptions under the International Regulations for Preventing collisions at Sea, 1972 (72 COLREGS). The document added an entry to Table Four, paragraph 23, in § 706.2. The existing table has three columns and the proposed entry has four columns. This correcting amendment corrects that information.

DATES: Effective November 3, 2011.

FOR FURTHER INFORMATION CONTACT: Lieutenant Jaewon Choi, JAGC, U.S. Navy, Admiralty Attorney (Admiralty and Maritime Law), Office of the Judge Advocate General, Department of the Navy, 1322 Patterson Avenue SE., Suite 3000, Washington Navy Yard, DC 20374-5066, telephone number: (202) 685-5040.

SUPPLEMENTARY INFORMATION: Pursuant to the authority granted in 33 U.S.C. 1605, the DoN amends 32 CFR part 706.

This amendment provides notice that the Deputy Assistant Judge Advocate General (DAJAG) (Admiralty and Maritime Law), under authority delegated by the Secretary of the Navy, has certified that USS FORT WORTH (LCS 3) is a vessel of the Navy which, due to its special construction and purpose, cannot fully comply with the following specific provisions of 72 COLREGS without interfering with its special function as a naval ship: Rule 27, paragraph (b)i, pertaining to the verticality of the three all-round task lights. The DAJAG (Admiralty and Maritime Law) has also certified that the lights involved are located in closest possible compliance with the applicable 72 COLREGS requirements.

Moreover, it has been determined, in accordance with 32 CFR parts 296 and 701, that publication of this amendment for public comment prior to adoption is impracticable, unnecessary, and contrary to public interest since it is based on technical findings that the placement of lights on this vessel in a manner differently from that prescribed herein will adversely affect the vessel's ability to perform its military functions.

List of Subjects in 32 CFR Part 706

Marine safety, Navigation (water), and Vessels.

Accordingly, 32 CFR part 706 is corrected pursuant to the authority granted in 33 U.S.C. 1605 by making the following correcting amendments:

PART 706—CERTIFICATIONS AND EXEMPTIONS UNDER THE INTERNATIONAL REGULATIONS FOR PREVENTING COLLISIONS AT SEA, 1972

1. The authority citation for part 706 continues to read as follows:

Authority: 33 U.S.C. 1605.

2. Section 706.2 is amended in Table Four, under paragraph 23, by revising the table to read as follows:

§ 706.2 Certifications of the Secretary of the Navy Under Executive Order 11964 and 33 U.S.C. 1605.

* * * * *

Table Four

* * * * *

23. * * *

Vessel | Number | Verticality of lights, when viewed directly from the port or starboard, the lower task light is out of alignment with the upper and middle task light in meters by: | Verticality of lights, when viewed directly from the bow or stern, the lower task light is with out of alignment the upper and middle task light in meters by:
USV | 11MUCO601 | 0.85 |
| 11MUCO602 | 0.85 |
| 11MUCO603 | 0.85 |
| 11MUCO604 | 0.85 |
USS FORT WORTH | LCS 3 |  | 0.21

* * * * *

Approved: October 24, 2011.
M. Robb Hyde,
Commander, JAGC, U.S. Navy, Deputy Assistant Judge Advocate, General (Admiralty and Maritime Law).

[FR Doc. 2011-28479 Filed 11-2-11; 8:45 am]

BILLING CODE 3810-FF-P